DEPARTMENT OF COMMERCE

International Trade Administration

The University of Georgia (UGA), et al.; Notice of Decision on Applications for Duty-Free Entry of Scientific Instruments

This is a decision pursuant to Section 6(c) of the Educational, Scientific, and Cultural Materials Importation Act of 1966 (Pub. L. 89-651, as amended by Pub. L. 06-36; 80 Stat. 897; 15 CFR part 301). Related records can be viewed between 8:30 a.m. and 5 p.m. in Room 3720, U.S. Department of Commerce, 14th and Constitution Ave., NW., Washington, DC.

Docket Number: 10-054. Applicant: The University of Georgia (UGA), Athens, GA 30602-7229. Instrument: HV Pneumatic Quadrant Beam Position Monitor with I404 Quad Current Integrator. Manufacturer: FMB Oxford Limited, United Kingdom. Intended Use: See notice at 75 FR 57738, September 22, 2010. Comments: None received. Decision: Approved. Reasons: The instrument must meet the following specifications: an 11 mm diameter beam aperture, a He leak rate of < 2 × 10‸ − 8 mbar I/sec, HV compatible to < 5 × 10 − 7 mbar vacuum, an operational range of 2 bar to 7 bar, a 6 mm pneumatic air connection, and a 24 VCD (1.2W) at 50 mA solenoid with flying leads. We know of no instruments of equivalent scientific value to the foreign instruments described below, for such purposes as this is intended to be used, that was being manufactured in the United States at the time of its order.

Docket Number: 10-059. Applicant: University of Chicago, LLC, Lemont, IL 60439. Instrument: Micropitting Test Machine. Manufacturer: Primelia Consulting Services Limited, United Kingdom. Intended Use: See notice at 75 FR 57738, September 22, 2010. Comments: None received. Decision: Approved. Reasons: The instrument has capabilities that are tailored for the specific micropitting analysis, specifically the accelerometer measurement to monitor for onset of fatigue failure. The instrument also has three points of contact which will increase the speed at which tests are made. We know of no instruments of equivalent scientific value to the foreign instruments described below, for such purposes as this is intended to be used, that was being manufactured in the United States at the time of its order.

Dated: October 29, 2010.
Gregory W. Campbell,
Acting Director, Subsidies Enforcement Office, Import Administration.

[FR Doc. 2010-27888 Filed 11-3-10; 8:45 am]

BILLING CODE 3510-DS-P